GOVERNMENT ACCOUNTABILITY OFFICE

Appointments to the Medicare Payment Advisory Commission

AGENCY: Government Accountability Office (GAO).

ACTION: Notice of appointments.

SUMMARY: The Balanced Budget Act of 1997 established the Medicare Payment Advisory Commission (MedPAC) and gave the Comptroller General responsibility for appointing its members. This notice announces the appointment of five new members and the reappointment of one existing member.

DATES: Appointments are effective May 1, 2012.

ADDRESSES: GAO: 441 G Street NW., Washington, DC 20548.

MedPAC: 601 New Jersey Avenue NW., Suite 9000, Washington, DC 20001.

FOR FURTHER INFORMATION CONTACT: GAO: Office of Public Affairs, (202) 512-4800.

MedPAC: Mark E. Miller, Ph.D., (202) 220-3700.

SUPPLEMENTARY INFORMATION: To fill this year's vacancies I am announcing the following:

Newly appointed members are Alice Coombs, MD, Critical Care Specialist and Anesthesiologist, South Shore Hospital; Jack Hoadley, Ph.D., Research Professor, Health Policy Institute, Georgetown University; David Nerenz, Ph.D., Director of the Center for Health Policy and Health Services Research, Henry Ford Health System; Rita Redberg, MD, Professor, Clinical Medicine, University of California at San Francisco Medical Center; and Craig Samitt, MD, President and Chief Executive Officer, Dean Health System, Inc.. Their terms will expire in April 2015. The reappointed member is Glenn M. Hackbarth, J.D., (chair).

(Sec. 4022, Pub. L. 105-33, 111 Stat. 251, 350)

Gene L. Dodaro,
Comptroller General of the United States.

[FR Doc. 2012-17643 Filed 7-19-12; 8:45 am]

BILLING CODE 1610-02-M